DEPARTMENT OF THE INTERIOR

Bureau of Land Management

[LLCAD06000.51010000.ER0000.LVRWB17B5480 17X5017AP; CACA41880]

Notice of Availability of the Draft Supplemental Environmental Impact Statement and Environmental Impact Report and Draft Land Use Plan Amendment for the Palen Solar Photovoltaic Project, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Amendment to the California Desert Conservation Area (CDCA) Plan and a Draft Supplemental Environmental Impact Statement (EIS) for the Palen Solar Photovoltaic (PSP) Project and by this Notice is announcing the opening of the comment period. This document is also an Environmental Impact Report (EIR) prepared by Riverside County under the California Environmental Quality Act (CEQA).

DATES: To ensure that all comments will be considered, the BLM must receive written comments on the Draft Supplemental EIS/EIR within 45 days following the date the Environmental Protection Agency publishes its Notice of Availability in the Federal Register. The BLM will announce future meetings or hearings and any other public involvement activities at least 15 days in advance through public notices, media releases, on the project Web site, and/or mailings.

ADDRESSES: You may submit comments related to the PSP Project by any of the following methods:

Web site: https://eplanning.blm.gov/epl-front-office/eplanning/planAndProjectSite.do?methodName=renderDefaultPlanOrProjectSite&projectId=68122.

Email: palensolar@blm.gov.

Mail: Palen Solar PV Project, c/o Aspen Environmental Group, 235 Montgomery Street, Suite 935, San Francisco, CA 94104

Copies of the Draft Supplemental EIS/EIR are available in the BLM-Palm Springs South Coast Field Office, 1201 Bird Center Drive, Palm Springs, CA 92262, and at the BLM California Desert District Office, 22835 Calle San Juan De Los Lagos, Moreno Valley, CA 92553, and electronically on the project Web site. Compact Disc copies of the document are available through request on this project Web site address.

FOR FURTHER INFORMATION CONTACT: Mark DeMaio, BLM Project Manager, telephone: (760) 833-7124; address: BLM, Palm Springs-South Coast Field Office, 1201 Bird Center Drive, Palm Springs, CA 92262; email: mdemaio@blm.gov.

Persons who use telecommunication devices for the deaf may call the Federal Relay Service at 1-800-877-8339 to contact the above individual during normal business hours. The Service is available 24 hours a day, 7 days a week, to leave a message or questions with the above individual regarding the project. You will receive a reply during normal business hours.

SUPPLEMENTARY INFORMATION: EDF Renewable Energy has applied for a Right-of-Way (ROW) from the BLM to construct, operate, maintain, and decommission a 500 megawatt (MW) solar photovoltaic facility near Desert Center, Riverside County, California. The ROW application area comprises about 4,200 acres, with a proposed project footprint of about 3,400 acres. The proposed project also includes construction of a 6.7-mile single circuit 230 kilovolt generation interconnection (gen-tie) transmission line connecting the project to the Southern California Edison (SCE) Red Bluff Substation.

The BLM is also considering an amendment to the CDCA Plan that would be necessary to authorize the project. This is a joint EIS/EIR for compliance with NEPA and CEQA. Riverside County is the lead agency under CEQA.

This Project application was originally submitted in 2007 as the Palen Solar Power Project (PSPP) by Palen Solar I, LLC (PSI), a wholly owned subsidiary of Solar Millennium. The PSPP was proposed as a solar trough project, and was the subject of an EIS under NEPA. The BLM, pursuant to its obligations under FLPMA and NEPA, published a Draft EIS, followed by a Proposed Resource Management Plan Amendment (RMP) and Final EIS on May 13, 2011 (76 FR 28064).

Before the BLM issued a Record of Decision (ROD), PSI informed the BLM that it would not construct the Project due to bankruptcy. As a result, the BLM did not issue a ROD, did not amend the RMP, and did not issue a ROW grant for the PSPP.

On June 21, 2012, the bankruptcy court approved the transfer of the application from PSI to Palen Solar III, LLC (PSIII). BrightSource Energy Inc., (BSE) then acquired all rights to PSIII at auction. PSIII submitted a revised ROW application to the BLM for the Palen Solar Electricity Generating System Project (PSEGS), a 500 MW concentrating solar power tower technology facility and single-circuit 230 kV gen-tie line. On July 27, 2013, the BLM issued a Draft Supplemental EIS and Plan Amendment to evaluate the potential additional environmental impacts caused by PSEGS. As part of the State permitting process, the California Energy Commission evaluated the PSEGS under CEQA, and issued Preliminary and Final Staff Assessments for the amended project in June and November of 2013, respectively.

The BLM did not issue a Final Supplemental EIS for the PSEGS Project because BSE and its partner, Abengoa Solar Inc., abandoned the State authorization proceedings at the California Energy Commission. In December 2015, EDF Renewable Energy acquired the PSEGS project. EDF Renewable Energy has submitted a revised ROW application for the Proposed Project, which is analyzed in this Draft Supplemental EIS/EIR and Draft Plan Amendment.

For the PSP Project, the BLM held public meetings on the revised ROW application in June and August 2016 in Palm Springs, California. The Draft Supplemental EIS/EIR includes analysis of the revised ROW application as it relates to the following issues:

(1) Updated description of the Proposed Project, based on the revised ROW application;

(2) Impacts to cultural resources and tribal concerns;

(3) Impacts to the Sand Transport Corridor and Mojave fringe-toed lizard habitat and washes;

(4) Impacts to Joshua Tree National Park;

(5) Impacts to avian species;

(6) Impacts to visual resources; and

(7) Relationship between the project and the regional renewable energy planning in the Desert Renewable Energy Conservation Plan.

In addition to the Proposed Action, the Draft Supplemental EIS/EIR considers a No-Action Alternative and two additional action alternatives. Alternative 1, Reduced Footprint, would be a 500 MW Photovoltaic (PV) array on about 3,100 acres. It avoids the central and largest desert wash and incorporates a more efficient use of the land for the solar array. Alternative 2, Avoidance Alternative, would be an up to 230 MW solar PV array on about 1,620 acres. Like the Proposed Action, under each of these alternatives, the BLM would amend the CDCA Plan to allow the project. Under the No-Action Alternative, the BLM would deny the ROW application, and would not amend the CDCA Plan to allow the project.

The BLM has selected Alternative 1—Reduced Footprint Alternative—as the Agency-Preferred Alternative for the Draft Supplemental EIS. The BLM and other cooperating agencies involved are inviting Draft Supplemental EIS reviewers to offer comments on the comparison of alternatives, as presented in the document.

Your input is important and will be considered in the environmental and land-use planning analysis. Please note that public comments and information submitted, including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Danielle Chi,
Deputy State Director, California.

[FR Doc. 2017-23417 Filed 10-26-17; 8:45 am]

BILLING CODE 4310-40-P